OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Executive Resources and Employee Development, Employee Services, 202-606-2246.

SUPPLEMENTARY INFORMATION: Appearing in the listing below are the individual authorities established under Schedules A, B, and C between March 1, 2011, and March 31, 2011. These notices are published monthly in the Federal Register at http://www.federalregister.gov/. A consolidated listing of all authorities as of June 30 is also published each year. The following Schedules are not codified in the Code of Federal Regulations. These are agency-specific exceptions.

Schedule A

No Schedule A authorities to report during March 2011.

Schedule B

No Schedule B authorities to report during March 2011.

Schedule C

The following Schedule C appointments were approved during March 2011.

Agency name | Organization name | Position title | Authorization No. | Effective date
Department of Agriculture | Office of the Assistant Secretary for Congressional Relations | Special Assistant | DA110029 | 3/8/2011
| Office of the Secretary | Advisor for Special Projects | DA110037 | 3/24/2011
| Farm Service Agency | Special Assistant | DA110042 | 3/24/2011
Department of Commerce | Office of the Chief of Staff | Protocol Officer | DC110040 | 3/3/2011
| National Oceanic and Atmospheric Administration | Director, Strategic Initiatives and Partnerships | DC110052 | 3/3/2011
| Office of the Assistant Secretary for Economic Development | Senior Advisor | DC110043 | 3/8/2011
Council on Environmental Quality | Council on Environmental Quality | Associate Director for Communications | EQ110004 | 3/25/2011
Department of Defense | Office of the Assistant Secretary of Defense (Asian and Pacific Security Affairs) | Director, Pakistan | DD110052 | 3/9/2011
| Washington Headquarters Services | Defense Fellow | DD110047 | 3/9/2011
| Office of Assistant Secretary of Defense (Legislative Affairs) | Special Assistant | DD110049 | 3/9/2011
| Office of the Secretary | Special Assistant | DD110050 | 3/9/2011
| Washington Headquarters Services | Defense Fellow | DD110048 | 3/10/2011
| Office of the Under Secretary of Defense (Policy) | Special Assistant | DD110054 | 3/22/2011
Department of the Air Force | Office of Assistant Secretary Air Force, Installations, Environment, and Logistics | Special Assistant | DF110014 | 3/21/2011
| Office of the Secretary | Executive Speechwriter | DF110016 | 3/23/2011
Department of Education | Office of the Secretary | Confidential Assistant | DB110040 | 3/18/2011
| Office of Communications and Outreach | Confidential Assistant | DB110042 | 3/18/2011
| Office of Communications and Outreach | Confidential Assistant | DB110043 | 3/18/2011
| Office of Safe and Drug-Free Schools | Confidential Assistant | DB110046 | 3/18/2011
| Office of Innovation and Improvement | Confidential Assistant | DB110049 | 3/28/2011
Department of Energy | Office of the Secretary | Special Assistant | DE110055 | 3/3/2011
| Office of the Chief Financial Officer | Special Assistant | DE110059 | 3/14/2011
| Office of the Deputy Secretary | Special Assistant | DE110063 | 3/21/2011
Environmental Protection Agency | Office of the Associate Administrator for External Affairs and Environmental Education | Special Assistant | EP110019 | 3/25/2011
Export-Import Bank | Office of Communications | Senior Advisor | EB110007 | 3/10/2011
General Services Administration | Office of Communications and Marketing | Director of Public Engagement | GS110031 | 3/9/2011
| Office of Communications and Marketing | Deputy Press Secretary | GS110030 | 3/9/2011
| Office of Communications and Marketing | Press Secretary | GS110029 | 3/11/2011
| Office of the Administrator | White House Liaison | GS110033 | 3/22/2011
Department of Health and Human Services | Office of the Assistant Secretary for Public Affairs | Special Assistant for Public Affairs | DH110004 | 3/11/2011
Department of Homeland Security | Office of the General Counsel | Special Advisor | DM110095 | 3/11/2011
| Office of the Assistant Secretary for Policy | Policy Analyst | DM110097 | 3/14/2011
| Office of the Assistant Secretary for Policy | Senior Advisor | DM110112 | 3/16/2011
| Office of the Chief of Staff | Liaison for Community Partnership and Strategic Engagement | DM110110 | 3/17/2011
| Office of the Under Secretary for National Protection and Programs Directorate | Senior Cybersecurity Strategist | DM110091 | 3/22/2011
| Office of Counternarcotics Enforcement | Counselor | DM110118 | 3/23/2011
| Office of the Under Secretary for Intelligence and Analysis | Liaison | DM110115 | 3/25/2011
| Office of the General Counsel | Special Assistant and Attorney Advisor | DM110120 | 3/28/2011
Department of the Interior | Bureau of Ocean Energy Management, Regulation and Enforcement | Senior Advisor | DI110041 | 3/8/2011
Department of Justice | Office of Intergovernmental and Public Liaison | Special Assistant | DJ100182 | 3/31/2011
| Office of Intergovernmental and Public Liaison | Associate Director | DJ110043 | 3/31/2011
Department of Labor | Office of the Secretary | Special Assistant | DL110017 | 3/18/2011
| Office of the Secretary | Lead Scheduler | DL110019 | 3/23/2011
| Office of the Secretary | Assistant | DL110021 | 3/30/2011
Occupational Safety and Health Review Commission | Office of Commissioners | Counsel | SH110001 | 3/10/2011
Office of National Drug Control Policy | Office of Public Affairs | Public Affairs Specialist (Deputy Press Secretary) | QQ110004 | 3/22/2011
Small Business Administration | Office of Congressional and Legislative Affairs | Congressional and Legislative Affairs Assistant | SB100046 | 3/24/2011
Department of State | Bureau of International Narcotics and Law Enforcement Affairs | Special Assistant | DS110059 | 3/18/2011
| Office To Monitor and Combat Trafficking In Persons | Staff Assistant | DS110048 | 3/21/2011
| Bureau of Economic, Energy and Business Affairs | Special Assistant | DS110053 | 3/23/2011
| Bureau of Public Affairs | Staff Assistant | DS110056 | 3/24/2011
| Bureau of Near Eastern Affairs | Legislative Liaison Specialist | DS110052 | 3/30/2011
Department of Transportation | Associate Administrator for Public Affairs | Director of Public Affairs | DT110021 | 3/24/2011

Authority: 5 U.S.C. 3301 and 3302; E.O. 10577, 3 CFR 1954-1958 Comp., p. 218.

U.S. Office of Personnel Management.
John Berry,
Director.

[FR Doc. 2011-13460 Filed 5-31-11; 8:45 am]

BILLING CODE 6325-39-P